NUCLEAR REGULATORY COMMISSION

[Docket No. 50-271]

Entergy Nuclear Vermont Yankee, LLC and Entergy Nuclear Operations, Inc.; Notice of Issuance of Amendment to Facility Operating License and Final Determination of No Significant Hazards Consideration

The U.S. Nuclear Regulatory Commission (Commission) has issued Amendment No. 229 to Facility Operating License No. DPR-28, issued to Entergy Nuclear Vermont Yankee, LLC and Entergy Nuclear Operations, Inc. (the licensee), which revised the Technical Specifications (TSs) and License for operation of the Vermont Yankee Nuclear Power Station (VYNPS) located in Windham County, Vermont. The amendment was effective as of the date of its issuance.

The amendment increases the maximum authorized power level for VYNPS from 1593 megawatts thermal (MWt) to 1912 MWt, which is an increase of approximately 20 percent. The increase in power level is considered an extended power uprate.

The application for the amendment complies with the standards and requirements of the Atomic Energy Act of 1954, as amended (the Act), and the Commission's rules and regulations. The Commission has made appropriate findings as required by the Act and the Commission's rules and regulations in 10 CFR Chapter I, which are set forth in the license amendment.

The Commission published a “Notice of Consideration of Issuance of Amendment to Facility Operating License and Opportunity for a Hearing” related to this action in the Federal Register on July 1, 2004 (69 FR 39976). This Notice provided 60 days for the public to request a hearing. On August 30, 2004, the Vermont Department of Public Service and the New England Coalition filed requests for hearing in connection with the proposed amendment. By Order dated November 22, 2004, the Atomic Safety and Licensing Board (ASLB) granted those hearing requests and by Order dated December 16, 2004, the ASLB issued its decision to conduct a hearing using the procedures in 10 CFR part 2, subpart L, “Informal Hearing Procedures for NRC Adjudications.”

The Commission published a “Notice of Consideration of Issuance of Amendment to Facility Operating License and Proposed No Significant Hazards Consideration Determination” related to this action in the Federal Register on January 11, 2006 (71 FR 1744). This Notice provided 30 days for public comment. The Commission received comments on the proposed no significant hazards consideration as discussed below.

Under its regulations, the Commission may issue and make an amendment immediately effective, notwithstanding the pendency before it of a request for a hearing from any person, in advance of the holding and completion of any required hearing, where it has determined that no significant hazards consideration is involved.

The Commission has applied the standards of 10 CFR 50.92 and has made a final determination that the amendment involves no significant hazards consideration. Public comments received on the proposed no significant hazards consideration determination were considered in making the final determination. The basis for this determination is contained in the Safety Evaluation related to this action. Accordingly, as described above, the amendment has been issued and made immediately effective and any hearing will be held after issuance.

The Commission published an Environmental Assessment related to the action in the Federal Register on January 27, 2006 (71 FR 4614). Based on the Environmental Assessment, the Commission concluded that the action will not have a significant effect on the quality of the human environment. Accordingly, the Commission determined not to prepare an environmental impact statement for the proposed action.

For further details with respect to this action, see the application for amendment dated September 10, 2003, as supplemented by letters dated October 1, and October 28 (2 letters), 2003; January 31 (2 letters), March 4, May 19, July 2, July 27, July 30, August 12, August 25, September 14, September 15, September 23, September 30 (2 letters), October 5, October 7 (2 letters), December 8, and December 9, 2004; February 24, March 10, March 24, March 31, April 5, April 22, June 2, August 1, August 4, September 10, September 14, September 18, September 28, October 17, October 21 (2 letters), October 26, October 29, November 2, November 22, and December 2, 2005; January 10, and February 22, 2006, which is available for public inspection at the Commission's PDR, located at One White Flint North, Public File Area O1 F21, 11555 Rockville Pike (first floor), Rockville, Maryland. Publicly available records will be accessible electronically from the Agencywide Documents Access and Management System's (ADAMS) Public Electronic Reading Room on the Internet at the NRC Web site, http://www.nrc.gov/reading-rm/adams.html. Persons who do not have access to ADAMS or who encounter problems in accessing the documents located in ADAMS, should contact the NRC PDR Reference staff by telephone at 1-800-397-4209, 301-415-4737, or by e-mail to pdr@nrc.gov.

Dated at Rockville, Maryland, this 2nd day of March, 2006.
For the Nuclear Regulatory Commission.
Richard B. Ennis,
Senior Project Manager, Plant Licensing Branch I-2, Division of Operating Reactor Licensing, Office of Nuclear Reactor Regulation.

[FR Doc. E6-3291 Filed 3-7-06; 8:45 am]

BILLING CODE 7590-01-P